DEPARTMENT OF THE INTERIOR

Fish and Wildlife Service

[FWS-HQ-IA-2023-N034; FXIA16710900000/234/FF09A30000; OMB Control Number 1018-0093]

Agency Information Collection Activities; Submission to the Office of Management and Budget for Review and Approval; Federal Fish and Wildlife Permit Applications and Reports—Management Authority

AGENCY: Fish and Wildlife Service, Interior.

ACTION: Notice of information collection; request for comment.

SUMMARY: In accordance with the Paperwork Reduction Act of 1995, we, the U.S. Fish and Wildlife Service (Service), are proposing to renew an information collection, with revisions.

DATES: Interested persons are invited to submit comments on or before June 5, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0093” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On June 30, 2022, we published in the Federal Register (87 FR 39112) a notice of our intent to request that OMB approve this information collection. In that notice, we solicited comments for 60 days, ending on August 29, 2022. In an effort to increase public awareness of, and participation in, our public commenting processes associated with information collection requests, the Service also published the Federal Register notice on Regulations.gov (Docket FWS-HQ-IA-2022-0067) to provide the public with an additional method to submit comments (in addition to the typical Info_Coll@fws.gov email and U.S. mail submission methods). We received the following comments in response to that notice:

Comment 1: Email comment dated July 18, 2022, from the Marine Mammal Commission. The Marine Mammal Commission provided the following recommendations regarding marine mammal permit applications:

1. Recommended that we (1) remove the requirement to denote procedures as Level A or B harassment or other take, and (2) ensure that mortality takes are denoted on separate rows and classified appropriately in the tables.

2. Recommended that we adopt a clearer means of collecting principal investigator (PI) and co-investigator (CI) activities by providing a table based on comments they provided on November 26, 2019.

3. Recommended that the Service establish a standardized qualification system similar to National Marine Fisheries Service (NMFS) standards, authorize PI and CIs to conduct activities according to this system, and require that in lieu of a curriculum vitae (CV), each PI or CI submit a qualification table based on the qualification standards that we establish.

4. Expressed concern that we under-reported the burden hours as indicated on our application forms for marine mammals, and provided suggested burden hours for information collection.

Agency Response to Comment 1: We accepted these changes and have incorporated them in our revised marine mammal permit application forms to include the removal of the requirement to denote procedures as Level A or B harassment or other take, adopting a clearer means of collecting PI and CI activities, and adjusting the burden hours for information collection.

Comment 2: Email comment dated August 15, 2022, from The Ornithological Council. The Ornithological Council's comment supports our electronic permitting system. The Council is encouraged to see improvements and the continued development of the system and encourages continued improvements to the digitization of the application forms. The commenter hopes that the Service can be more responsive to their requests for assistance when needed. For Convention on International Trade in Endangered Species of Wild Fauna and Flora (CITES) permits, the commenter indicated that it can be problematic to obtain the endorsements that were adopted in 2002 (Resolution Conf. 12.3 Rev. CoP19). For Wild Bird Conservation Act (WBCA) permits, the commenter indicated that there is some question on interpretation of the exemption for requiring a permit under the WBCA for dead museum specimens and dead scientific specimens. Finally, the commenter requested that we change the title of Form 3-200-47 to “Import of Live Birds for Scientific Research or Zoological Breeding and Display under the Wild Bird Conservation Act.”

Agency Response to Comment 2: We are pleased to see that the commenter is in support of our ePermits system, along with the commenter's acknowledgement that we continue to build and improve the system. We continue to work to improve our responsiveness to our customers' questions. For WBCA permits, the Service's position is that this exemption is only allowed for those specimens that are accessioned into a museum or scientific institution's collection. Specimens that are subject to collection under a researcher's activities and are not accessioned into an institution's collection would not be eligible for this exemption and the researcher should apply for the necessary import permits.

For CITES permit endorsements, Resolution Conf. 12.3 (Rev CoP19) provides that “export permits and re-export certificates be endorsed, with quantity, signature, and stamp, by an inspecting official, such as Customs, in the export endorsement block of the document. If the export document has not been endorsed at the time of export, the Management Authority of the importing country should liaise with the exporting country's Management Authority, considering any extenuating circumstances or documents, to determine the acceptability of the document.” As this is a regulatory requirement and recommendation under a CITES resolution, the commenter has continued to experience barriers to obtaining the required endorsements; consequently, they submitted a petition requesting we eliminate this requirement from our regulations. These regulations are currently being updated at this time and may address the Ornithological Society's concerns. For application Form 3-200-47, based on our discussion above, this change would preclude researchers that obtain dead specimens that are not accessioned into a museum or scientific institution from applying for a permit. Therefore, we will not make this change.

The commenter also discussed issues specific to the Migratory Bird Treaty Act (MBTA). Since we collect information regarding CITES and the U.S. Endangered Species Act (ESA), we can only provide the comments to the Service program that handles MBTA permits.

Comment 3: Email comment dated August 29, 2022, from Safari Club International. The Safari Club International (SCI) opposes the information collected on Forms 3-200-19, 3-200-20, 3-200-21, and 3-200-22, regarding the sex and age of the sport-hunted trophy. The commenter also suggested changes to the Notices section of the application under the Privacy Act Statement and Paperwork Reduction Act Statement.

Agency Response to Comment 3: In response to the request to remove the questions asking for the age and sex of the trophy, our regulations at 50 CFR 23.61 require us to find that a proposed import of an Appendix I specimen is for purposes that would not be detrimental to the survival of the species, prior to issuing a CITES document. The regulations stipulate, at 50 CFR 23.61(c), that the applicant must provide sufficient information for us to make a finding of non-detriment, and outline those criteria for which a finding of non-detriment can be made. Specifically, 50 CFR 23.61(c)(2) states that we must be able to find that the removal of the animal or plant from the wild is part of a biologically based sustainable-use management plan that is designed to eliminate overutilization of the species. Under CITES, the import permit must be issued prior to the export permit. Our requirement for the applicant to state the sex and age of the sport-hunted trophy provides us with the complete information we need to make a non-detriment finding.

Additionally, in accordance with regulations at 50 CFR 23.60, in order to issue a permit for this activity, the Division of Management Authority (DMA) must determine that the trophy was legally acquired. This involves reviewing records such as permits, licenses, and tags, plus harvest locations and capture means, that demonstrate the specimen was legally removed from the wild under relevant wildlife or forestry laws or regulations. In some cases, this may include the sex and age of the animal, evidence of firearms license where restricted and relevant, and invoices related to hiring of guides or professional hunters.

Additionally, for species listed as threatened or endangered under the U.S. Endangered Species Act, we are required to find that the activity enhances the survival of the species. We understand that management plans in many foreign countries limit hunters to sport-hunting of animals of a certain age and/or sex. The requirement for the applicant to state the sex and age of the sport-hunted trophy information, in addition to the current enhancement questionnaire, makes it unnecessary for us to ask the country for this information. We do not ask for the age and/or sex for a trophy that has not yet been hunted. Therefore, in summary, we appreciate the comment submitted; however, the topics addressed in the comment submitted will remain unchanged in the application. In response to the commenter's request that we incorporate their suggested changes to our Notices under the Privacy Act Statement and Paperwork Reduction Act Statement, we did not make the suggested changes as these statements apply to all permit application forms.

Additionally, we are required to publish in the Federal Register the name, city, and State of any applicant who requests activities with a species that is listed as endangered. The information that is collected is voluntary in that the General Permit Procedures, outlined in 50 CFR 13.12(a), require this information be disclosed if a person wishes to obtain a permit.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The General Permit Requirements at 50 CFR 13 provide the uniform rules, conditions, and procedures for the application for, and the issuance, denial, suspension, revocation, and general administration of, all permits for all of the laws, treaties, and regulations administered by the Service that authorize activities requiring permits. The requirements in 50 CFR part 13 are in addition to any other permit regulations that may apply to a specific circumstance and are outlined in other sections of our regulations.

The Wild Bird Conservation Act (WBCA; 16 U.S.C. 4901-4916) and the Convention on International Trade in Endangered Species of Wild Fauna and Flora (CITES; 27 U.S.T. 1087, March 3, 1973) use a system of permits and certificates to help ensure that international trade is legal and does not threaten the survival of wildlife or plant species in the wild. Permits under the U.S. Endangered Species Act (ESA; 16 U.S.C. 1531 et seq.) and the Marine Mammal Protection Act (MMPA; 16 U.S.C. 1361 et seq.) ensure that activities are consistent with the intent and purposes of the ESA and MMPA. Permitted activities under the Bald and Golden Eagle Act (BGEPA; 16 U.S.C. 668-668d) must be compatible with the preservation of eagles. Permitted activities regarding injurious wildlife under the Lacey Act (18 U.S.C. 42; 16 U.S.C. 3371-3378) regulate the importation into the United States and any shipment between the continental United States, the District of Columbia, Alaska, Hawaii, the Commonwealth of Puerto Rico, or any possession of the United States, of animal species determined to be injurious by the Secretary of the Interior. Such importation and shipments are prohibited, except by permit. Although the Service's Division of Management Authority does not administer the Migratory Bird Treaty Act (MBTA; 16 U.S.C. 704), we receive authorization from the Migratory Bird Program to issue import/export permits under the MBTA.

Prior to the import or export of species listed under the MBTA, MMPA, BGEPA, Lacey Act, WBCA, ESA, and/or CITES, the Management Authority and Scientific Authority must make appropriate determinations and issue the appropriate documents. Section 8A of the ESA designates the Secretary of the Interior as the U.S. Management Authority and U.S. Scientific Authority for CITES. The Secretary in turn delegated these authorities to the Service.

Before a country can issue an export permit for CITES Appendix I or II specimens, the CITES Scientific Authority of the exporting country must determine that the export will not be detrimental to the survival of the species, and the Management Authority must be satisfied that the specimens were acquired legally. For the export of Appendix III specimens, the Management Authority must be satisfied that the specimens were acquired legally (CITES does not require findings from the Scientific Authority). Prior to the importation of Appendix I specimens, both the Scientific Authority and the Management Authority of the importing country must make required findings. The Scientific Authority must also monitor trade of all species to ensure that the level of trade is sustainable.

Article VIII(3) of the CITES treaty states that participating parties should make efforts to ensure that CITES specimens are traded with a minimum of delay. Section XIII of Resolution Conf. 12.3 (Rev. CoP19) recommends use of simplified procedures for issuing CITES documents to expedite trade that will have no impact, or a negligible impact, on conservation of the species involved.

All Service permit applications are in the 3-200 series of forms, each tailored to a specific activity based on the requirements for specific types of permits. In accordance with Federal regulations at 50 CFR 13.12, we collect standard identifier information for all permit applications, such as:

• Applicant's full name, whether an individual or business, and address (street address, city, county, State, and zip code; and mailing address, if different from street address); main and alternate telephone numbers; and an email address (required if filing electronically, optional for a mail-in application), and

—If the applicant resides or is located outside the United States, an address in the United States, and, if the applicant is conducting commercial activities, the name and address of the applicant's agent inside the United States; and

—If the applicant is a business, corporation, public agency, or institution, the tax identification number; description of the business type, corporation, agency, or institution; and the name and title of the person responsible for the permit (such as president, principal officer, or director);

• Location where the requested permitted activity is to occur or be conducted;

• Reference to the part(s) and section(s) of subchapter B as listed in paragraph (b) of 50 CFR 13 under which the application is made for a permit or permits, together with any additional justification, including supporting documentation as required by the referenced part(s) and section(s);

• If the requested permitted activity involves the import or re-export of wildlife or plants from or to any foreign country, and the country of origin, or the country of export or re-export restricts the taking, possession, transportation, exportation, or sale of wildlife or plants, documentation as indicated in § 14.52(c) of subchapter B;

• Certification containing the following language:

—I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.

• Desired effective date of permit (except where issuance date is fixed by the part under which the permit is issued);

• Signature date;

• Signature of the applicant;

• Such other information as the Director determines relevant to the processing of the application, including but not limited to information on the environmental effects of the activity consistent with 40 CFR 1506.5 and Departmental procedures at 516 DM 6, appendix 1.3A; and

• Additional information required on applications for other types of permits may be found by referring to table 1 in paragraph (b) in 50 CFR 13.12.

Standardization of general information common to the application forms makes the filing of applications easier for the public, as well as expediting our review of applications. The information that we collect on applications and reports is the minimum necessary for us to determine if the applicant meets/continues to meet issuance requirements for the particular activity.

Proposed Revisions

In 2020, the Service implemented a new electronic permit application called ePermits. The ePermits system allowed the Service to move towards a streamlined permitting process to reduce the information collection burden on the public, particularly small businesses. Public burden reduction is a priority for the Service, the Assistant Secretary for Fish and Wildlife and Parks, and senior leadership at the Department of the Interior. The intent of the ePermits system is to fully modernize the permitting process to improve the customer experience and to reduce time burden on respondents. This system enhances the user experience by allowing users to enter data from any device that has internet access, including personal computers, tablets, and smartphones. It also links the permit applicant to the Pay.gov system for payment of the associated permit application fee.

Users of the ePermits system register for and use an account which will then automatically populate the forms they complete with the required identification information. The system eliminates the need for applicants to enter their information multiple times when they apply for separate permits and therefore reduces the burden on the applicant. The account registration process will also provide private sector users an opportunity to self-identify as a small business, which will enable the Service to more accurately report burden associated with information collection requirements placed on them.

At this time, the ePermits system is unable to fully digitize section E of the permit application process. Section E of each permit application is customized based on the permit type. We anticipate being able to begin digitizing section E on our application forms within the year. As a result of challenges with the development of forms within the ePermits system, we do not have a timeline for full digitization of section E. We anticipate beginning the digitization of the report forms contained in this collection within the year, and believe the digitization of section E on application forms should be finalized by fiscal year 2024, as funding and resources become available.

We anticipate changes to 12 application forms outlined below; however, we do not anticipate significant changes to the questions within section E of the other application forms. We have identified questions that could be simplified into plain language. Our proposed changes to the application forms are described below:

• Changes to trophy applications (FWS Forms 3-200-19, “Import of Sport-Hunted Trophies of Southern African Leopard and Namibian Southern White Rhinoceros”; 3-200-20, “Import of Sport-Hunted Trophies (Appendix I of CITES and/or ESA)”; 3-200-21, “Import of Sport-Hunted Trophies of Argali”; and 3-200-22, “Import of Sport-Hunted Bontebok Trophies from South Africa”), to include specific questions on the sex and approximate age of the trophy, and copies of the specific forms provided by each country to the hunter as part of their application.

• Updating FWS Form 3-200-31, “Introduction from the Sea (CITES),” to add information requirements necessary to identify ports of entry to ensure proper inspection/clearance of specimens imported under the introduction from the sea.

• Updating FWS Form 3-200-32, “Export/Re-Export of Plants (CITES),” to ensure that each section of the application requests receipts documenting the legal acquisition of the species requested.

• Updating FWS Form 3-200-37d, “Interstate or Foreign commerce of Live Animals/Samples/or Products (ESA),” to add a question on the description of and justification for the requested activity. We will outline the information needed for each of the following purposes: scientific research, conservation education and/or zoological display, and captive propagation for the conservation and survival of the species.

• Based on requirements outlined in Resolution Conf. 11.20 (Rev CoP18), we will be updating FWS Form 3-200-37f, “Import of Live African Elephant from Botswana, Namibia, South Africa, and Zimbabwe and Southern White Rhino from Eswatini and South Africa,” to request additional information required in order to make the finding of appropriate and acceptable destinations for the import of live African elephants and rhinoceros.

• Updates to FWS Form 3-200-41, “Captive-Bred Wildlife Registration (U.S. Endangered Species Act),” will be updated to include all new applicants completing sections 1, 2, and 4, as appropriate, and section 3 for renewing a captive-bred wildlife registration.

• Splitting FWS Form 3-200-43, “Take/Import/Export of Marine Mammals for Public Display, Scientific Research, Enhancement, or Rescue/Rehabilitation/Release Activities or Renewal/Amendment of Existing Permit (MMPA and/or ESA),” into smaller parts (3-200-43a, 3-200-43b, 3-200-43c, 3-200-43d) to ensure the applicant can easily identify and submit the correct type of application for activities being requested under the MMPA.

• Clarification of information needed on FWS Form 3-200-46, “Import/Export/Re-Export of Personal Pets under the Conservation on International Trade in Endangered Species (CITES) and/or the U.S. Endangered Species Act (ESA),” will include the requirement of the address of an applicant when they will be relocating with their pet.

• Updates to FWS Form 3-200-73, “Re-Export of Wildlife (CITES),” will be updated to align with our FWS Form 3-200-24, “Export of Live Captive-Born Animals and/or Part/Products from Non-Native Species under the Convention on International Trade in Endangered Species (CITES),” for information collected on live animals to include the sex and birth/hatch date of the live wildlife to be re-exported.

We do not plan to make changes to the annual report forms contained in this collection. We do make note that some permits are issued with specific reporting requirements at the termination of the permitted activity. The information varies based on the permitted activities. The report is submitted at the time a permit renewal is requested or at the termination of the permitted activity.

The public may request copies of any form or document contained in this information collection by sending a request to the Service Information Collection Clearance Officer (see ADDRESSES, above).

Title of Collection: Federal Fish and Wildlife Permit Applications and Reports—Management Authority; 50 CFR 13, 15, 16, 17, 18, 22, 23.

OMB Control Number: 1018-0093.

Form Numbers: FWS Forms 3-200-19 through 3-200-37, 3-200-39 through 3-200-42, 3-200-43a through 3-200-43d, 3-200-46 through 3-200-53, 3-200-58, 3-200-61, 3-200-64 through 3-200-66, 3-200-69, 3-200-70, 3-200-73 through 3-200-76, 3-200-80, and 3-200-85 through 3-200-88.

Type of Review: Revision of a currently approved collection.

Description of Respondents/Affected Public: Individuals (including hunters); private sector (including biomedical companies, circuses, zoological parks, botanical gardens, nurseries, museums, universities, antique dealers, exotic pet industry, taxidermists, commercial importers/exporters of wildlife and plants, freight forwarders/brokers); and State, local, Tribal, and Federal governments.

Estimated Number of Annual Respondents: 6,139.

Estimated Number of Annual Responses: 8,946.

Estimated Completion Time per Response: Varies from 15 minutes to 40 hours, depending on activity.

Estimated Annual Burden Hours: 9,035.

Respondent's Obligation: Required to obtain or retain a benefit.

Frequency of Collection: On occasion or annually, depending on activity.

Total Estimated Annual Nonhour Burden Cost: $576,387 for costs associated with application processing fees, which range from $0 to $250. There is no fee for reports. State, local, Tribal, and Federal government agencies and those acting on their behalf are exempt from processing fees.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-09578 Filed 5-4-23; 8:45 am]

BILLING CODE 4333-15-P